DEPARTMENT OF HOUSING AND URBAN DEVELOPMENT

24 CFR Parts 5, 84, and 85

[Docket No. FR-5350-F-02]

RIN 2501-AD50

Conforming Changes to Applicant Submission Requirements; Implementing Federal Financial Report and Central Contractor Registration Requirements

AGENCY: Office of the Secretary, HUD.

ACTION: Final rule.

SUMMARY: This final rule follows publication of a July 15, 2010, interim rule that revised HUD regulations to reference the new governmentwide Federal Financial Report (FFR) approved by the Office of Management and Budget (OMB). The FFR consolidates requirements from the OMB-issued Standard Forms SF-269, SF-269A, SF-272, and SF-272A into a single governmentwide form. In incorporating reference to the new FFR in its regulations, HUD amended its regulations to remove references to old and outdated forms that are no longer in use. The July 15, 2010, interim rule also codified the requirement that applicants for HUD assistance possess an active Central Contractor Registration (CCR). HUD is adopting the interim rule without change.

DATES: Effective Date: January 7, 2011.

FOR FURTHER INFORMATION CONTACT: Barbara Dorf, Director, Office of Departmental Grants Management and Oversight, Office of Administration, Chief Human Capital Officer, Department of Housing and Urban Development, 451 7th Street, SW., Room 3156, Washington, DC 20410-0500, telephone number 202-708-0667. Persons with hearing or speech impairments may access this number through TTY by calling the toll-free Federal Information Relay Service at 800-877-8339.

SUPPLEMENTARY INFORMATION:

I. Background

On July 15, 2010 (75 FR 41087), HUD published an interim rule that revised HUD regulations to reference the new governmentwide FFR, approved by OMB. The FFR provides a uniform, governmentwide format and establishes standard reporting period end dates and due dates for the submission of cash management and financial information. The FFR also reduces the burden on grantees that are reporting using electronic systems and simplifies reporting procedures for grantees to facilitate uniformity in agencies' grantmaking process. HUD's July 15, 2010, interim rule amended 24 CFR parts 84 and 85, by removing references to old and outdated forms and substituting, where appropriate, the FFR. The interim rule also amended §§ 84.52 and 85.41 to conform to reporting requirements to those provided for by the FFR.

HUD's July 15, 2010, interim rule also revised 24 CFR part 5 to require that applicants, including private nonprofit organizations, educational organizations, and State and regional agencies, that are subject to § 5.1001 register with CCR and have an active CCR registration in order for HUD to obligate funds and in order for the applicant to receive funds from HUD. CCR collects, validates, stores, and disseminates data in support of agency missions, including Federal agency contract and assistance awards, and the electronic payment process. Codifying this registration requirement facilitates applicant and awardee use of a single public Web site that consolidates data on awards made under various types of Federal Financial Assistance, pursuant to the Federal Funding Accountability and Transparency Act of 2006 (Transparency Act) (Pub. L. 109-282) (Transparency Act).

II. This Final Rule

This final rule follows publication of the July 15, 2010, interim rule. The public comment period on the interim rule closed on September 13, 2010. HUD did not receive public comment on the interim rule. HUD is adopting the interim rule without change.

III. Findings and Certifications

Executive Order 12866, Regulatory Planning and Review

This rule is not a significant regulatory action under section 3(f) of Executive Order 12866, Regulatory Planning and Review, and it was not reviewed by OMB. This rule is not significant because it conforms HUD regulations to refer to the FFR, removes outdated references to forms that are obsolete, and codifies a requirement that HUD has included for several years in its notices of funding availability.

Paperwork Reduction Act

The information collection requirements contained in this final rule have been submitted to OMB under the Paperwork Reduction Act of 1995 (44 U.S.C. 3501-3520). In accordance with the Paperwork Reduction Act, an agency may not conduct or sponsor, and a person is not required to respond to, a collection of information unless the collection displays a currently valid OMB control number. The OMB control number for the FFR is 0348-0061.

Environmental Impact

This final rule does not direct, provide for assistance or loan and mortgage insurance for, or otherwise govern or regulate real property acquisition, disposition, leasing, rehabilitation, alteration, demolition, or new construction; or establish, revise, or provide for standards for construction or construction materials, manufactured housing, or occupancy. Accordingly, under 24 CFR 50.19(c)(1), this rule is categorically excluded from environmental review under the National Environmental Policy Act of 1969 (42 U.S.C. 4321).

Regulatory Flexibility Act

The Regulatory Flexibility Act (RFA) (5 U.S.C. 601 et seq.) generally requires an agency to conduct a regulatory flexibility analysis of any rule subject to notice and comment rulemaking requirements, unless the agency certifies that the rule will not have a significant economic impact on a substantial number of small entities. This final rule conforms HUD regulations to requirements applicable to all grantees that are already in place, as a result of action previously taken by OMB, and small entities were provided the opportunity for comment in connection with OMB's publications. With respect to financial reporting, this rule streamlines the financial reporting requirement by replacing, with one form, the several that have been used prior to Fiscal Year 2010 and, as a result, reducing the burden on all entities, including small entities, by simplifying the task of filing required financial reports. Similarly, CCR registration has been required of applicants and grantees for HUD's competitive programs to ensure the proper identity of applicants. This rule codifies the CCR registration requirement that HUD grantees are already meeting. Accordingly, the undersigned certifies that this rule will not have a significant impact on a substantial number of small entities.

Executive Order 13132, Federalism

Executive Order 13132 (entitled “Federalism”) prohibits an agency from publishing any rule that has federalism implications if the rule either imposes substantial direct compliance costs on State and local governments and is not required by statute, or the rule preempts State law, unless the agency meets the relevant requirements of section 6 of the Executive Order. This final rule does not have federalism implications and does not impose substantial direct compliance costs on State and local governments or preempt State law within the meaning of the Executive Order.

Unfunded Mandates Reform Act

Title II of the Unfunded Mandates Reform Act of 1995 (UMRA) (12 U.S.C. 1531-1538) establishes requirements for Federal agencies to assess the effects of their regulatory actions on State, local, and Tribal governments, and on the private sector. This final rule would not impose any Federal mandates on any State, local, or Tribal governments, or on the private sector, within the meaning of UMRA.

List of Subjects

24 CFR Part 5

Administrative practice and procedure, Aged, Claims, Crime, Government contracts, Grants programs—housing and community development, Individuals with disabilities, Intergovernmental relations, Loans programs—housing and community development, Low and moderate income housing, Mortgage insurance, Penalties, Pets, Public housing, Rent subsidies, Reporting and recordkeeping requirements, Social Security, Unemployment compensation, Wages.

24 CFR Part 84

Accounting, Colleges and universities, Grant programs, Hospitals, Non-profit organizations, Reporting and recordkeeping requirements.

24 CFR Part 85

Accounting, Grant programs, Indians, Intergovernmental relations, Reporting and recordkeeping requirements.

Accordingly, the interim rule amending 24 CFR parts 5, 84, and 85, which was published at 75 FR 41087 on July 15, 2010, is adopted as final without change.

Dated: December 1, 2010.
Shaun Donovan,
Secretary.

[FR Doc. 2010-30843 Filed 12-7-10; 8:45 am]

BILLING CODE 4210-67-P